DEPARTMENT OF DEFENSE

Department of the Navy

32 CFR Part 706

Certifications and Exemptions Under the International Regulations for Preventing Collisions at Sea, 1972

AGENCY: Department of the Navy, DoD.

ACTION: Final rule.

SUMMARY: The Department of the Navy (DoN) is amending its certifications and exemptions under the International Regulations for Preventing Collisions at Sea, 1972 (72 COLREGS), to reflect that the Deputy Assistant Judge Advocate General (DAJAG) (Admiralty and Maritime Law) has determined that USS ANCHORAGE (LPD 23) is a vessel of the Navy which, due to its special construction and purpose, cannot fully comply with certain provisions of the 72 COLREGS without interfering with its special function as a naval ship. The intended effect of this rule is to warn mariners in waters where 72 COLREGS apply.

DATES: This rule is effective January 30, 2012 and is applicable beginning January 16, 2012.

FOR FURTHER INFORMATION CONTACT: Lieutenant Jaewon Choi, JAGC, U.S. Navy, Admiralty Attorney, (Admiralty and Maritime Law), Office of the Judge Advocate General, Department of the Navy, 1322 Patterson Ave. SE., Suite 3000, Washington Navy Yard, DC 20374-5066, telephone (202) 685-5040.

SUPPLEMENTARY INFORMATION: Pursuant to the authority granted in 33 U.S.C. 1605, the DoN amends 32 CFR part 706.

This amendment provides notice that the DAJAG (Admiralty and Maritime Law), under authority delegated by the Secretary of the Navy, has certified that USS ANCHORAGE (LPD 23) is a vessel of the Navy which, due to its special construction and purpose, cannot fully comply with the following specific provisions of 72 COLREGS without interfering with its special function as a naval ship: Rule 27(a)(i) and (b)(i), pertaining to the placement of all-round task lights in a vertical line; Annex I, paragraph 3(a), pertaining to the horizontal distance between the forward and after masthead lights; and Annex I, paragraph 2(k) as described in Rule 30(a)(i), pertaining to the vertical separation between anchor lights. The DAJAG (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on technical findings that the placement of lights on this vessel in a manner differently from that prescribed herein will adversely affect the vessel's ability to perform its military functions.

List of Subjects in 32 CFR Part 706

Marine safety, Navigation (water), and Vessels.

For the reasons set forth in the preamble, amend part 706 of title 32 of the CFR as follows:

PART 706—CERTIFICATIONS AND EXEMPTIONS UNDER THE INTERNATIONAL REGULATIONS FOR PREVENTING COLLISIONS AT SEA, 1972

1. The authority citation for part 706 continues to read:

Authority: 33 U.S.C. 1605.

2. Section 706.2 is amended as follows:

A. In Table Three by adding, in alpha numerical order, by vessel number, an entry for USS ANCHORAGE (LPD 23); and

B. In Table Four by adding, in alpha numerical order, by vessel number, and entry for USS ANCHORAGE (LPD 23); and

C. In Table Five by adding, in alpha numerical order, by vessel number, and entry for USS ANCHORAGE (LPD 23).

§706.2 Certifications of the Secretary of the Navy under Executive Order 11964 and 33 U.S.C. 1605.

* * * * *

Table Three
Vessel | No. | Masthead lights arc of visibility; rule 21(a) | Side lights arc of visibility; rule 21(b) | Stern light arc of visibility; rule 21(c) | Side lights distance inboard of ship's sides in meters 3(b) Annex 1 | Stern light, distance forward of stern in meters; rule 21(c) | Forward anchor light, height above hull in meters; 2(k) Annex 1 | Anchor lights relationship of aft light to forward light in meters 2(k) Annex 1
| * * * * * * *
USS ANCHORAGE | LPD 23 |  |  |  |  |  |  | 1.19 below
| * * * * * * *

* * * * *

Table Four
Vessel | Number | Angle in degrees of task lights off vertical as viewed from directly ahead or astern
| * * * * * * *
USS ANCHORAGE | LPD 23 | 10
| * * * * * * *

* * * * *

Table Five
Vessel | No. | Masthead lights not over all other lights and obstructions. Annex I, sec. 2(f) | Forward masthead light not in forward quarter of ship. Annex I, sec. 3(a) | After masthead light less than ½ ship's length aft of forward masthead light. Annex I, sec. 3(a) | Percentage horizontal separation attained
| * * * * * * *
USS ANCHORAGE | LPD 23 |  |  | X | 71
| * * * * * * *

Approved: January 16, 2012.
M. Robb Hyde,
Commander, JAGC, U.S. Navy, Deputy Assistant Judge Advocate, General (Admiralty and Maritime Law).
Dated: January 23, 2012.
J.M. Beal,
Lieutenant Commander, Judge Advocate General's Corps, U.S. Navy, Federal Register Liaison Officer.

[FR Doc. 2012-1900 Filed 1-27-12; 8:45 am]

BILLING CODE 3810-FF-P